POSTAL SERVICE

39 CFR Part 20

Known Mailer and Exceptions

AGENCY: Postal Service™.

ACTION: Final rule.

SUMMARY: The Postal Service is revising the Mailing Standards of the United States Postal Service, International Mail Manual (IMM®) to remove the “known mailer” definition and exceptions for customs declarations.

DATES: Effective September 29, 2024.

FOR FURTHER INFORMATION CONTACT: Vlad Spanu at (202) 268-4180 or Kathy Frigo at (202) 268-4178.

SUPPLEMENTARY INFORMATION: On May 12, 2023, the Postal Service published a notice of proposal (88 FR 30689) to remove IMM section 123.62 regarding known mailers and other related information in the IMM associated with known mailers to align postal regulations with current customs policy. In response to the proposed rule, the Postal Service received formal comments from two commenters as follows:

Comment: One commenter responded on behalf of the industry for multiple mailing services, noting that this industry represents the vast majority of the Postal Service's outbound commercial volume and revenue. The commenter indicated it would be challenging for this industry, especially for nonprofit and publication mailers, to remove the “known mailer” definition and exceptions for customs declarations, in that the change would end the current allowances whereby a good of nominal value (less than $1.00) can accompany a document mailed as a letter or flat without a customs form.

Response: Under the Acts of the Universal Postal Union (UPU), small packets containing goods must bear customs declarations, regardless of the minimal value of the goods. All goods require disclosure of details using the Customs Forms and Advance Electronic Data (AED) also known as Electronic Advance Data (EAD) outside of the United States, and as these items are traveling via international means, they must follow international rules for content and disclosure of contents.

Comment: The commenter further indicated that it would eliminate the current exception that also allows a document that exceeds the dimensions of a flat to be mailed as a packet without a customs declaration if it is poly-wrapped, noting that the exceptions were created a decade ago.

Response: Similar to the response above, under the Acts of the UPU, small packets containing goods must bear customs declarations, regardless of the minimal value of the goods. With respect to documents that are sent as bulky letters, the Postal Service does not have operational systems in place to separate such pieces from small packets containing goods. Consequently, a customs declaration is required for letter-post pieces that are entered as bulky letters i.e., that are items containing documents and are not eligible as letter-post letters or flats.

Comment: The commenter also indicated that, in 2017, similar comments of support to retain the known mailer exceptions were provided in response to a Notice of Proposed Rulemaking on International Mailing Service, citing that those comments are essentially unchanged, and are even more resonant today given the sizeable decline in the Postal Service's outbound volumes and revenue over the past five years. The commenter further noted that the Postal Service should not be adding any obstacles that make it harder for mailers to do business with it, especially given the highly competitive outbound market in which the Postal Service operates.

Response: The reduction of mail volumes and revenue, or other business concerns, while significant to the Postal Service, do not excuse the Postal Service and mailers from following international requirements for customs declarations and AED.

Comment: The commenter indicated that requiring a customs declaration form and accompanying electronic data for goods of a nominal value will be a costly adjustment to make for many current users, including among nonprofit organizations with which such items are most popular, in that it would require significant adjustments to their processes and increase their costs to accommodate the customs declaration form and data, most likely causing clients to consider the cost-effectiveness of sending future mailings, curtailing international fundraising mail. The commenter further indicated that adding the burden of the customs declaration form would make advertising mail with a giveaway cost-prohibitive for nonprofits.

Response: The cost effectiveness of this change does not dictate whether customs declarations are required by international law. This is not a change made with intent to shift burden or cost to the mailing or nonprofit industry; it is solely for consistency with mandatory international regulations.

Comment: Another notable challenge provided by the commenter is the proposed requirement that documents mailed as a packet due to size restrictions, such as publications, include a customs declaration form and associated electronic data. Any additional obstacles for publishers are likely to have an impact on outbound volumes.

Response: Similar to the response above, the impacts should be limited to an additional form placed on the package and associated AED transmission, and should not impact mail preparation or packaging unless the size of the item does not allow for a label that is 4 inches in length by 6 inches in height—in which case the package size may need to change or a smaller form may need to be designed and passed by the approving officials at the Postal Service for custom designed customs forms.

Comment: The commenter added that another problem with this proposed change is that confusion remains about whether publications and magazines sent as documents are “goods” that require a customs form. Some publications are free circulation, so customers do not pay for them and thus they have no monetary value to the customer, therefore presumably fitting the category of documents for which no customs declaration form is required. The commenter also contended that the importing country sets its own regulations determining whether publications are considered goods or documents and that it is not consistent across the board, with some countries treating publications as documents and others as goods. The commenter questioned whether the Postal Service would require a customs declaration form for all publications, even if the destination country considers them to be documents.

Response: In accordance with the UPU Convention and its Regulations, items containing goods require customs declarations. Documents generally consist of any written, drawn, printed, or digital information, excluding objects of merchandise, whose physical specifications lie within certain limits; goods generally consist of any tangible and movable objects other than money, including objects of merchandise, which do not fall under the definition of documents. Current IMM section 123.63 (here being renumbered as section 123.62) provides guidance on what items are generally considered documents and what items are generally considered merchandise. Customs declaration forms are required for magazines (periodicals) as merchandise.

Comment: The commenter also indicated that eliminating the known mailer exceptions adds another layer of complexity to the export compliance process, especially for shared partners that have worked closely with the Postal Service to meet the necessary export compliance requirements to ensure safety, security, and accountability in the international mailstream. The commenter further stated that these hurdles seem to tip the scale in favor of the Postal Service's competitors and that elimination of the known mailer exceptions adds one more weight to the scale.

Response: The Postal Service cannot choose whether or not items with goods require customs declarations as a matter of international law, regardless of whether competitors insist on customs forms for private shipments. Customs forms are typically required for goods shipped as private cargo.

Comment: The other commenter requested that the subsections containing “official mail” exceptions for customs declarations remain and not be amended. The commenter indicated that general descriptions are utilized to deter rifling and theft and that removing the known mailer definition would compromise classified and secret or sensitive materials and equipment, hinder investigations, and create stagnancy for the nation's trusted workforce, resulting in adverse impacts to government agencies and ultimately prevent the mailing of classified materials.

Response: Under binding international law, there is no general exception for customs declarations for “official mail.” At the same time, the Postal Service considers the security of all mail for which it is responsible to be of paramount importance.

The Postal Service is removing IMM section 123.62 in its entirety and revising associated IMM section 123.61a, Exhibit 123.61, and section 272.4 to remove known mailer references.

We believe these revisions are necessary to align postal policy with current customs and international mail regulations applicable to the United States and other countries. The Postal Service adopts the described changes to Mailing Standards of the United States Postal Service, International Mail Manual (IMM), incorporated by reference in the Code of Federal Regulations. We will publish an appropriate amendment to 39 CFR part 20 to reflect these changes.

In a separate rule, the Postal Service will also revise associated revisions to the DMM.

List of Subjects in 39 CFR Part 20

Administrative practice and procedure, Postal Service.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the Mailing Standards of the United States Postal Service, International Mail Manual (IMM) as follows:

Mailing Standards of the United States Postal Service, International Mail Manual (IMM)

* * * * *

1 International Mail Services

* * * * *

120 Preparation for Mailing

* * * * *

123 Customs Forms and Online Shipping Labels

* * * * *

123.6 Required Usage

123.61 Conditions

* * * * *

[Revise item a. to read as follows:]

a. Mailers may use the hard copy PS Form 2976-R and present it at a USPS retail service counter, or use an electronic PS Form 2976, PS Form 2976-A, or PS Form 2976-B as described in Exhibit 123.61.

* * * * *

Exhibit 123.61

Customs Declaration Form Usage by Mail Category

* * * * *

[In the section “First-Class Package International Service Packages (Small Packets), as well as IPA Packages (Small Packets) and ISAL Packages (Small Packets),” remove the second row (beginning with “All package-size items. . .”) in its entirety; also in Exhibit 123.61, revise all references of 123.63 to 123.62.]

* * * * *

[Remove section 123.62, “Known Mailers,” in its entirety, renumbering current sections 123.63 and 123.64 to be 123.62 and 123.63, respectively.]

* * * * *

2 Conditions for Mailing

* * * * *

270 Free Matter for the Blind

* * * * *

272 Eligibility

* * * * *

272.4 Customs Form Required

[Revise the text to read as follows (removing the second sentence):]

When required (see Exhibit 123.61), the mailer must affix a fully completed electronically generated PS Form 2976 or 2976-A to each item.

Colleen Hibbert-Kapler,
Attorney, Ethics and Legal Compliance.

[FR Doc. 2024-13264 Filed 6-17-24; 8:45 am]

BILLING CODE P